DEPARTMENT OF COMMERCE

International Trade Administration

[A-570-095, C-570-096]

Aluminum Wire and Cable From the People's Republic of China: Antidumping Duty and Countervailing Duty Orders

AGENCY: Enforcement and Compliance, International Trade Administration, Department of Commerce.

SUMMARY: Based on affirmative final determinations by the Department of Commerce (Commerce) and the International Trade Commission (ITC), Commerce is issuing antidumping duty (AD) and countervailing duty (CVD) orders on imports of aluminum wire and cable from the People's Republic of China (China).

DATES: Applicable December 23, 2019.

FOR FURTHER INFORMATION CONTACT: Nancy Decker or Caitlin Monks at (202) 482-0196 and (202) 482-2670, respectively, AD/CVD Operations, Office VII, Enforcement and Compliance, U.S. Department of Commerce, 1401 Constitution Avenue NW, Washington, DC 20230.

SUPPLEMENTARY INFORMATION:

Background

In accordance with sections 705(d) and 735(d) of the Tariff Act of 1930, as amended (the Act), on October 30, 2019, Commerce published its affirmative final determination in the less-than-fair-value (LTFV) investigation of aluminum wire and cable from China, and its affirmative final determination that countervailable subsidies are being provided to producers and exporters of aluminum wire and cable from China.¹ On December 16, 2019, the ITC notified Commerce of its final affirmative determinations that an industry in the United States is materially injured by reason of LTFV imports and subsidized imports of aluminum wire and cable from China, within the meaning of sections 705(b)(1)(A)(i) and 735(b)(1)(A)(i) of the Act.²

¹ See Aluminum Wire and Cable from the People's Republic of China: Final Affirmative Determination of Sales at Less Than Fair Value, 84 FR 58134 (October 30, 2019) (AD Final Determination); see also Aluminum Wire and Cable from the People's Republic of China: Final Affirmative Countervailing Duty Determination, 84 FR 58137 (October 30, 2019) (CVD Final Determination).

² See ITC's Letter, “Notification of ITC Final Determinations,” dated December 16, 2019 (ITC Notification); see also Aluminum Wire and Cable from China, Inv. No. 701-TA-611 and 731-TA-1428 (USITC Publication 5001).

Scope of the Orders

The products covered by these orders are aluminum wire and cable from China. For a complete description of the scope of the orders, see the Appendix to this notice.

AD Order

As stated above, on December 16, 2019, in accordance with section 735(d) of the Act, the ITC notified Commerce of its final determination that an industry in the United States is materially injured within the meaning of section 735(b)(1)(A)(i) of the Act by reason of imports of aluminum wire and cable from China that are sold in the United States at LTFV. Therefore, in accordance with section 735(c)(2) of the Act, we are issuing this AD order. Because the ITC determined that imports of aluminum wire and cable from China are materially injuring a U.S. industry, unliquidated entries of such merchandise from China entered, or withdrawn from warehouse, for consumption are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of aluminum wire and cable from China. Antidumping duties will be assessed on unliquidated entries of aluminum wire and cable from China entered, or withdrawn from warehouse, for consumption on or after June 5, 2019, the date of publication of the AD Preliminary Determination,³ but will not include entries occurring after the expiration of the provisional measures period and before publication of the ITC's final injury determination, as further described below.

³ See Aluminum Wire and Cable from the People's Republic of China: Affirmative Preliminary Determination of Sales at Less Than Fair Value and Postponement of Final Determination, 84 FR 26069 (June 5, 2019) (AD Preliminary Determination).

Continuation of Suspension of Liquidation—AD

In accordance with section 736 of the Act, we will instruct CBP to continue the suspension of liquidation on entries of aluminum wire and cable from China, effective on the date of publication in the Federal Register of the ITC's final affirmative injury determination. These instructions suspending liquidation will remain in effect until further notice.

We will also instruct CBP to require cash deposits equal to the amounts indicated below. Accordingly, effective on the date of publication in the Federal Register of the ITC's final affirmative injury determination, CBP will require, at the same time as importers would normally deposit estimated duties on the subject merchandise, a cash deposit equal to the exporter/producer-specific estimated weighted-average dumping margins listed below. As stated in the AD Final Determination, Commerce made certain adjustments for export subsidies from the CVD Final Determination to the estimated weighted-average dumping margins to determine each of the cash deposit rates.

Exporter | Producer | Estimated weighted -average dumping margin (percent) | Cash deposit rate (adjusted for subsidy offsets) (percent)
Changfeng Wire & Cable Co., Ltd | Changfeng Wire & Cable Co., Ltd | 58.51 | 47.83
Wuxi Jiangnan Cable Co., Ltd | Wuxi Jiangnan Cable Co., Ltd | 58.51 | 47.83
China-wide entity |  | 63.47 | 52.79

Provisional Measures—AD

Section 733(d) of the Act states that instructions issued pursuant to an affirmative preliminary determination may not remain in effect for more than four months, except where exporters representing a significant proportion of exports of the subject merchandise request Commerce to extend that four-month period to no more than six months. At the request of exporters that account for a significant proportion of aluminum wire and cable from China, Commerce extended the four-month period to six months in this proceeding.⁴ In the underlying investigation, Commerce published the AD Preliminary Determination on June 5, 2019. Therefore, the extended period, beginning on the date of publication of the AD Preliminary Determination, ended on December 1, 2019. Furthermore, section 737(b) of the Act states that definitive duties are to begin on the date of publication of the ITC's final injury determination.

⁴ Id.

Therefore, in accordance with section 733(d) of the Act and our practice, Commerce will instruct CBP to terminate the suspension of liquidation and to liquidate, without regard to antidumping duties, unliquidated entries of aluminum wire and cable from China entered, or withdrawn from warehouse, for consumption after December 1, 2019, the date on which the provisional measures expired, until and through the day preceding the date of publication of the ITC's final injury determination in the Federal Register. Suspension of liquidation will resume on the date of publication of the ITC's final determination in the Federal Register.

CVD Order

As stated above, on December 16, 2019, in accordance with section 705(d) of the Act, the ITC notified Commerce of its final determination that the industry in the United States producing aluminum wire and cable is materially injured within the meaning of section 705(b)(1)(A)(i) of the Act by reason of subsidized imports of aluminum wire and cable from China.⁵ Therefore, in accordance with section 705(c)(2) of the Act, we are issuing this CVD order.

⁵ See ITC Notification.

As a result of the ITC's final determination, in accordance with section 706(a) of the Act, Commerce will direct CBP to assess, upon further instruction by Commerce, countervailing duties on unliquidated entries of subject merchandise from China entered, or withdrawn from warehouse, for consumption on or after April 8, 2019, the date on which Commerce published the CVD Preliminary Determination ⁶ and before August 6, 2019, the effective date on which Commerce instructed CBP to discontinue the suspension of liquidation in accordance with section 703(d) of the Act. Section 703(d) of the Act states that the suspension of liquidation pursuant to a preliminary determination may not remain in effect for more than 120 days. Therefore, entries of subject merchandise from China made on or after August 6, 2019, and prior to the date of publication of the ITC's final determination in the Federal Register, are not subject to the assessment of countervailing duties due to Commerce's discontinuation of the suspension of liquidation.

⁶ See Aluminum Wire and Cable from the People's Republic of China: Preliminary Affirmative Countervailing Duty Determination, and Alignment of Final Determination with Final Antidumping Duty Determination, 84 FR 13886 (April 8, 2019) (CVD Preliminary Determination).

Suspension of Liquidation—CVD

In accordance with section 706 of the Act, Commerce will direct CBP to reinstitute the suspension of liquidation of subject merchandise from China, effective on the date of publication of the ITC's final affirmative injury determination in the Federal Register, and to assess, upon further instruction by Commerce pursuant to section 706(a)(1) of the Act, countervailing duties for each entry of aluminum wire and cable in an amount based on the net countervailable subsidy rates for the subject merchandise. On or after the date of publication of the ITC's final injury determination in the Federal Register, Commerce will instruct CBP to require, at the same time as importers would normally deposit estimated duties on the subject merchandise, a cash deposit for each entry of subject merchandise equal to the subsidy rates listed below.⁷ The all-others rate applies to all producers or exporters not specifically listed below, as appropriate.

⁷ See section 706(a)(3) of the Act.

Producer/exporter | Subsidy rate (percent)
Shanghai Silin Special Equipment Co., Ltd ⁸ | 165.63
Changfeng Wire & Cable Co., Ltd | 33.44
Shanghai Yang Pu Qu Gong | 165.63
All Others | 33.44

Provisional Measures—CVD

Section 703(d) of the Act states that the suspension of liquidation pursuant to an affirmative preliminary determination may not remain in effect for more than four months. Commerce published the affirmative Preliminary Determination on April 8, 2019. Therefore, the four-month period beginning on the date of the publication of the Preliminary Determination ended on August 5, 2019.

⁸ As discussed in the Preliminary Determination PDM, Commerce has also assigned Silin's rate to the entity named as cross-owned in its affiliation questionnaire response: Jiangxi Silin International Cable Co., Ltd.

In accordance with section 733(d) of the Act, Commerce instructed CBP to terminate the suspension of liquidation and to liquidate, without regard to CVD duties, unliquidated entries of aluminum wire and cable from China entered, or withdrawn from warehouse, for consumption on or after August 6, 2019, the date on which the provisional CVD measures expired, through the day preceding the date of publication of the ITC final injury determinations in the Federal Register. Suspension of liquidation will resume on the date of publication of the ITC final injury determination in the Federal Register.

Notification to Interested Parties

This notice constitutes the AD and CVD orders with respect to aluminum wire and cable from China pursuant to sections 706(a) and 736(a) of the Act. Interested parties can find a list of orders currently in effect at http://enforcement.trade.gov/stats/iastats1.html.

These orders are published in accordance with sections 706(a) and 736(a) of the Act and 19 CFR 351.211(b).

Dated: December 17, 2019.
Jeffrey I. Kessler,
Assistant Secretary for Enforcement and Compliance.

Appendix

Scope of the Orders

The scope of these orders covers aluminum wire and cable, which is defined as an assembly of one or more electrical conductors made from 8000 Series Aluminum Alloys (defined in accordance with ASTM B800), Aluminum Alloy 1350 (defined in accordance with ASTM B230/B230M or B609/B609M), and/or Aluminum Alloy 6201 (defined in accordance with ASTM B398/B398M), provided that: (1) At least one of the electrical conductors is insulated; (2) each insulated electrical conductor has a voltage rating greater than 80 volts and not exceeding 1000 volts; and (3) at least one electrical conductor is stranded and has a size not less than 16.5 thousand circular mil (kcmil) and not greater than 1000 kcmil. The assembly may: (1) Include a grounding or neutral conductor; (2) be clad with aluminum, steel, or other base metal; or (3) include a steel support center wire, one or more connectors, a tape shield, a jacket or other covering, and/or filler materials.

Most aluminum wire and cable products conform to National Electrical Code (NEC) types THHN, THWN, THWN-2, XHHW-2, USE, USE-2, RHH, RHW, or RHW-2, and also conform to Underwriters Laboratories (UL) standards UL-44, UL-83, UL-758, UL-854, UL-1063, UL-1277, UL-1569, UL-1581, or UL-4703, but such conformity is not required for the merchandise to be included within the scope.

The scope of the orders specifically excludes aluminum wire and cable products in lengths less than six feet, whether or not included in equipment already assembled at the time of importation.

The merchandise covered by the orders is currently classifiable under subheading 8544.49.9000 of the Harmonized Tariff Schedule of the United States (HTSUS). Products subject to the scope may also enter under HTSUS subheading 8544.42.9090. The HTSUS subheadings are provided for convenience and customs purposes. The written description of the scope of the orders is dispositive.

[FR Doc. 2019-27641 Filed 12-20-19; 8:45 am]

BILLING CODE 3510-DS-P